DEPARTMENT OF THE INTERIOR

Office of Surface Mining Reclamation and Enforcement

[DOI-2023-0016; S1D1S SS08011000 SX064A000 234S180110]

Privacy Act of 1974; System of Records

AGENCY: Office of Surface Mining Reclamation and Enforcement, Interior.

ACTION: Notice of a modified system of records.

SUMMARY: Pursuant to the provisions of the Privacy Act of 1974, as amended, the Department of the Interior (DOI, Department) is issuing a public notice of its intent to modify the Office of Surface Mining Reclamation and Enforcement (OSMRE) Privacy Act system of records, INTERIOR/OSM-12, Blaster Certification. The OSMRE is revising this system of records notice (SORN) to update the bureau designation in the system number to reflect the entirety of the bureau name, update all sections of the notice, and provide general and administrative updates to accurately reflect the modified system. This modified system will be included in DOI's inventory of record systems.

DATES: This modified system will be effective upon publication. New or modified routine uses will be effective December 6, 2023. Submit comments on or before December 6, 2023.

ADDRESSES: You may submit comments, identified by docket number [DOI-2023-0016], by any of the following methods:

• Federal eRulemaking Portal: https://www.regulations.gov. Follow the instructions for submitting comments.

• Email: DOI_Privacy@ios.doi.gov. Include docket number [DOI-2023-0016] in the subject line of the message.

• U.S. Mail or Hand-Delivery: Teri Barnett, Departmental Privacy Officer, U.S. Department of the Interior, 1849 C Street NW, Room 7112, Washington, DC 20240.

Instructions: All submissions received must include the agency name and docket number [DOI-2023-0016]. All comments received will be posted without change to https://www.regulations.gov, including any personal information provided.

Docket: For access to the docket to read background documents or comments received, go to https://www.regulations.gov.

FOR FURTHER INFORMATION CONTACT: Patrick Dege, Associate Privacy Officer, Information Resource Office, Office of Surface Mining Reclamation and Enforcement, 1849 C Street NW, Mail Stop 1200 West Corridor, Washington, DC 20240, OSMRE_Privacy@osmre.gov or (202) 208-3549.

SUPPLEMENTARY INFORMATION:

I. Background

The OSMRE maintains the INTERIOR/OSM-12, Blaster Certification, system of records to manage the certifications of blasters in Federal Program States and on Indian Lands in compliance with the provisions of the Surface Mining Control and Reclamation Act of 1977. The OSMRE Blaster Certification system of records serves as a tool for OSMRE to grant blaster applicants' certificates for issuance, renewal, reissuance and reciprocity status, administration, and notification procedures, as well as to provide an adequate record-keeping system for compliance with a Federal program and enable OSMRE as the regulatory authority to effectively monitor its program requirements.

OSMRE is publishing this revised notice to update the bureau designation in the SORN number from “OSM-12” to “OSMRE-12” in order to reflect the bureau's full title of Office of Surface Mining Reclamation and Enforcement; update the system location and system manager and address; update legal authorities; propose new and modified routine uses; update the categories of records to provide additional information on the types of data maintained in the records; update the records retention schedule; update the sections for record access, notification, and contesting record procedures to clarify how individuals may submit Privacy Act requests; and provide general and administrative updates to remaining sections to accurately reflect the management and scope of the system in accordance with the Office of Management and Budget (OMB) Circular A-108, Federal Agency Responsibilities for Review, Reporting, and Publication under the Privacy Act.

OSMRE is updating its routine uses from a numerical to alphabetical listing and is proposing to modify existing routine uses to provide clarity and transparency and reflect updates consistent with standard Departmental routine uses. Routine uses A, B, D, J, and O have been modified to provide additional clarification regarding external organizations and circumstances where disclosures are proper and necessary to facilitate the management of blaster certifications. Routine use A was modified to further clarify disclosures to the Department of Justice or other Federal agencies, when necessary, in relation to litigation or judicial proceedings. Routine use B was modified to clarify disclosures to a congressional office responding to or resolving an individual's request made to that office. Routine use D was modified to clarify the sharing of information with appropriate Federal, State, local, foreign agencies, or other public authority agencies responsible for investigating or prosecuting violations of, or for enforcing, or implementing, a statute, rule, regulation, order, or license. Modified routine use J would allow the Department to share information with appropriate Federal agencies or entities when reasonably necessary to respond to a breach of personally identifiable information and to prevent, minimize, or remedy the risk of harm to individuals or the Federal Government resulting from a breach in accordance with OMB Memorandum M-17-12, Preparing for and Responding to a Breach of Personally Identifiable Information. Routine use O was modified to include Federal and Tribal officials who may have responsibility for obtaining information relevant to a Federal blaster.

OSMRE is proposing new routine uses to facilitate the sharing of information with agencies and organizations to ensure the efficient and effective management of the Blaster Certification system of records or to carry out a Departmental or other Federal Government statutory responsibility. Proposed routine use C would facilitate the sharing of information with the Executive Office of the President to respond to an inquiry by the individual to whom that record pertains or a third party on the individual's behalf. Proposed routine use E facilitates sharing of information with an official of another Federal agency to assist in reconciling or reconstructing data files or to enable that agency to respond to an inquiry by the individual to whom the information pertains. Proposed routine use F would allow OSMRE to share information with agencies when relevant for hiring and retention or issuance of a security clearance, license, contract, grant, or benefit. Proposed routine use G would allow OSMRE to share information with the National Archives and Records Administration (NARA) to conduct records management inspections. Proposed routine use H would allow OSMRE to share information with external entities, such as State, Tribal, territorial, and local governments, and Tribal organizations, in response to court orders and/or for discovery purposes related to litigation. Proposed routine use I allows OSMRE to share information with organizations that perform services on the Department's behalf to carry out the purposes of the Blaster Certification system of records. Proposed routine use L would allow OSMRE to share information with the OMB during the coordination and clearance process in connection with legislative affairs. Proposed routine use M would allow OSMRE to share information with the Department of the Treasury to recover debts owed to the United States. Proposed routine use N would allow OSMRE to share information with the news media and the public if there is a legitimate public interest in the disclosure of the information.

II. Privacy Act

The Privacy Act of 1974, as amended, embodies fair information practice principles in a statutory framework governing the means by which Federal agencies collect, maintain, use, and disseminate individuals' records. The Privacy Act applies to records about individuals that are maintained in a “system of records.” A “system of records” is a group of any records under the control of an agency from which information is retrieved by the name of an individual or by some identifying number, symbol, or other identifying particular assigned to the individual. The Privacy Act defines an individual as a United States citizen or lawful permanent resident. Individuals may request access to their own records that are maintained in a system of records in the possession or under the control of the Department by complying with Departmental Privacy Act regulations at 43 CFR part 2, subpart K, and following the procedures outlined in the Records Access, Contesting Record, and Notification Procedures sections of this notice.

The Privacy Act requires each agency to publish in the Federal Register a description denoting the existence and character of each system of records that the agency maintains, and the routine uses of each system. The INTERIOR/OSMRE-12, Blaster Certification, system of records notice is published in its entirety below. In accordance with 5 U.S.C. 552a(r), the Department has provided a report of this system of records to the Office of Management and Budget and to Congress.

III. Public Participation

You should be aware that your entire comment, including any personally identifiable information, such as your address, phone number, email address, or any other personal information, may be made publicly available at any time. While you may request that your personally identifiable information be withheld from public review, we cannot guarantee that it will be able to do so.

SYSTEM NAME AND NUMBER:

INTERIOR/OSMRE-12, Blaster Certification.

SECURITY CLASSIFICATION:

Unclassified.

SYSTEM LOCATION:

Office of Surface Mining Reclamation and Enforcement, U.S. Department of the Interior, Three Parkway Center, Pittsburgh, PA 15220. Records are also located at OSMRE offices in Alton, Illinois; Lakewood, Colorado; Knoxville, Tennessee; Tulsa, Oklahoma; and Casper, Wyoming. To obtain specific addresses for the offices listed, contact the System Manager at the address given below.

SYSTEM MANAGER(S):

OSMRE Blaster Certification Coordinator, Office of Surface Mining Reclamation and Enforcement, U.S. Department of the Interior, Three Parkway Center, Pittsburgh, PA 15220.

AUTHORITY FOR MAINTENANCE OF THE SYSTEM:

Surface Mining Control and Reclamation Act of 1977 (SMCRA), 30 U.S.C. 1201-1328; Safe Explosives Act, Title XI, Subtitle C of the Homeland Security Act of 2002, Public Law 107-296; 18 U.S.C. 842-843; 30 CFR Chapter VII, Subchapter E—Indian Lands Program, Section 750.19; 30 CFR Chapter VII, Subchapter G—Surface Coal Mining and Reclamation Operations Permits and Coal Exploration Systems Under Regulatory Programs; 30 CFR Chapter VII, Subchapter K—Permanent Program Performance Standards, Sections, 816.61 and 817.61; 30 CFR Chapter VII, Subchapter M—Training, Examination, and Certification of Blasters; 30 CFR Chapter VII, Subchapter T—Programs for the Conduct of Surface Mining Operations Within Each State, Part 900, Part 910, Part 912, Part 921, Part 922, Part 933, Part 937, Part 939, Part 941, Part 942, Part 947, Part 955; and Executive Order 9397, Numbering System for Federal Accounts Relating to Individual Persons, as amended by Executive Order 13478.

PURPOSE(S) OF THE SYSTEM:

The primary purpose of the system is to enable OSMRE to effectively issue blaster certificates and manage blaster certifications issued to individuals (blasters) to conduct blasting operations in any Federal Program State or on Indian Lands under Federal jurisdiction while meeting the regulatory performance standards of SMCRA.

CATEGORIES OF INDIVIDUALS COVERED BY THE SYSTEM:

Individual members of the public who apply to OSMRE for certification as blasters in Federal Program States and on Indian Lands.

CATEGORIES OF RECORDS IN THE SYSTEM:

Records in the system include Applications for OSMRE Blaster Certificates (OSMRE-74 form), application status updates, including issuance, renewal, reissuance, replacement, or reciprocity, records of denials, revocation or suspension, and reports on the status of blaster certifications as follows:

(1) Application information submitted by candidates containing the following: name, Social Security number (voluntary), address, phone number, birthdate, email address and other contact information, gender, height and weight, hair and eye color, employment history, blasting experience, education, blaster training, examination dates, blaster certification history, and personal affirmation of application information;

(2) Summary reports of Federal blaster certificates alphabetically, numerically, by status or certificate type;

(3) Certification Status reports that contain listings of active, expired, revoked, or suspended certificates along with the performance history of each blaster; and

(4) Records of approval as an “Employee Possessor” or “Responsible Party” issued by the Department of Justice, Bureau of Alcohol, Tobacco, Firearms and Explosives. Approval letters are provided by the applicant and must be renewed triennially.

RECORD SOURCE CATEGORIES:

Records in the system are obtained from applicants for certification as blasters in Federal Program States and on Indian Lands. Information related to verification of applications is obtained from Federal agencies, States, Tribes, mining companies, and law enforcement organizations.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DOI as a routine use pursuant to 5 U.S.C. 552a(b)(3) as follows:

A. To the Department of Justice (DOJ), including Offices of the U.S. Attorneys, or other Federal agency conducting litigation or in proceedings before any court, adjudicative, or administrative body, when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity when DOI or DOJ has agreed to represent that employee or pay for private representation of the employee; or

(5) The United States Government or any agency thereof, when DOJ determines that DOI is likely to be affected by the proceeding.

B. To a congressional office when requesting information on behalf of, and at the request of, the individual who is the subject of the record.

C. To the Executive Office of the President in response to an inquiry from that office made at the request of the subject of a record or a third party on that person's behalf, or for a purpose compatible with the reason for which the records are collected or maintained.

D. To any criminal, civil, or regulatory law enforcement authority (whether Federal, State, territorial, local, Tribal, or foreign) when a record, either alone or in conjunction with other information, indicates a violation or potential violation of law—criminal, civil, or regulatory in nature, and the disclosure is compatible with the purpose for which the records were compiled.

E. To an official of another Federal agency to provide information needed in the performance of official duties related to reconciling or reconstructing data files or to enable that agency to respond to an inquiry by the individual to whom the record pertains.

F. To Federal, State, territorial, local, Tribal, or foreign agencies that have requested information relevant or necessary to the hiring, firing or retention of an employee or contractor, or the issuance of a security clearance, license, contract, grant or other benefit, when the disclosure is compatible with the purpose for which the records were compiled.

G. To representatives of the National Archives and Records Administration (NARA) to conduct records management inspections under the authority of 44 U.S.C. 2904 and 2906.

H. To State, territorial, and local governments and Tribal organizations to provide information needed in response to court order and/or discovery purposes related to litigation, when the disclosure is compatible with the purpose for which the records were compiled.

I. To an expert, consultant, grantee, shared service provider, or contractor (including employees of the contractor) of DOI that performs services requiring access to these records on DOI's behalf to carry out the purposes of the system.

J. To appropriate agencies, entities, and persons when:

(1) DOI suspects or has confirmed that there has been a breach of the system of records;

(2) DOI has determined that, as a result of the suspected or confirmed breach, there is a risk of harm to individuals, DOI (including its information systems, programs, and operations), the Federal Government, or national security; and

(3) the disclosure made to such agencies, entities, and persons is reasonably necessary to assist in connection with DOI's efforts to respond to the suspected or confirmed breach or to prevent, minimize, or remedy such harm.

K. To another Federal agency or Federal entity, when DOI determines that information from this system of records is reasonably necessary to assist the recipient agency or entity in:

(1) responding to a suspected or confirmed breach; or

(2) preventing, minimizing, or remedying the risk of harm to individuals, the recipient agency or entity (including its information systems, programs, and operations), the Federal Government, or national security, resulting from a suspected or confirmed breach.

L. To the Office of Management and Budget (OMB) during the coordination and clearance process in connection with legislative affairs as mandated by OMB Circular A-19.

M. To the Department of the Treasury to recover debts owed to the United States.

N. To the news media and the public, with the approval of the Public Affairs Officer in consultation with counsel and the Senior Agency Official for Privacy, where there exists a legitimate public interest in the disclosure of the information, except to the extent it is determined that release of the specific information in the context of a particular case would constitute an unwarranted invasion of personal privacy.

O. To Federal, State, Tribal, or mining company officials to verify whether an individual is a certified blaster under the OSMRE Blaster Certification Program.

POLICIES AND PRACTICES FOR STORAGE OF RECORDS:

Blaster certification applications (OSMRE-74 forms), related records and information are maintained in hard copy format such as file folders, and in digital format on servers, computers, electronic databases, and other appropriate electronic storage media.

POLICIES AND PRACTICES FOR RETRIEVAL OF RECORDS:

Records are retrieved by OSMRE Blaster Certificate number and last name filed alphabetically by applicant or candidate.

POLICIES AND PRACTICES FOR RETENTION AND DISPOSAL OF RECORDS:

Records in this system are maintained and disposed of in accordance with OSMRE Records Schedule N1-471-89-1, Item 201-13—Blaster Certification Files. The disposition for these records is temporary and the records are cut-off upon expiration of certification. Records are destroyed two years after cut-off.

Approved destruction methods for temporary records that have met their retention period include shredding or pulping of paper records and erasing or degaussing electronic records in accordance with Departmental policy and NARA guidelines.

ADMINISTRATIVE, TECHNICAL, AND PHYSICAL SAFEGUARDS:

The records contained in this system are safeguarded in accordance with 43 CFR 2.226 and other applicable security and privacy rules and policies. Records are accessible only by authorized OSMRE employees. During normal hours of operation, paper records are maintained in locked file cabinets under the control of authorized personnel. Computer servers on which electronic records are stored are in secured Department-controlled facilities with physical, technical, and administrative levels of security to prevent unauthorized access to the Department's network and information assets. Access granted to authorized personnel is based on muti-factor authentication and each person granted access to the system must be individually authorized to use the system. A Privacy Act Warning Notice appears on computer monitor screens when records containing information on individuals are first displayed. Data exchanged between the servers and the system is encrypted. Backup tapes are encrypted and stored in a locked and controlled room in a secure, off-site location. A Privacy Impact Assessment was conducted to ensure that Privacy Act requirements are met and appropriate privacy controls were implemented to safeguard the personally identifiable information contained in the system.

RECORD ACCESS PROCEDURES:

An individual requesting access to their records should send a signed, written inquiry to the applicable System Manager identified above. DOI forms and instructions for submitting a Privacy Act request may be obtained from the DOI Privacy Act Requests website at https://www.doi.gov/privacy/privacy-act-requests. The request must include a general description of the records sought and the requester's full name, current address, and sufficient identifying information such as date of birth or other information required for verification of the requester's identity. The request must be signed and dated and be either notarized or submitted under penalty of perjury in accordance with 28 U.S.C. 1746. Requests submitted by mail must be clearly marked “PRIVACY ACT REQUEST FOR ACCESS” on both the envelope and letter. A request for access must meet the requirements of 43 CFR 2.238.

CONTESTING RECORD PROCEDURES:

An individual requesting amendment of their records should send a written request to the applicable System Manager as identified above. DOI instructions for submitting a request for amendment of records are available on the DOI Privacy Act Requests website at https://www.doi.gov/privacy/privacy-act-requests. The request must clearly identify the records for which amendment is being sought, the reasons for requesting the amendment, and the proposed amendment to the record. The request must include the requester's full name, current address, and sufficient identifying information such as date of birth or other information required for verification of the requester's identity. The request must be signed and dated and be either notarized or submitted under penalty of perjury in accordance with 28 U.S.C. 1746. Requests submitted by mail must be clearly marked “PRIVACY ACT REQUEST FOR AMENDMENT” on both the envelope and letter. A request for amendment must meet the requirements of 43 CFR 2.246.

NOTIFICATION PROCEDURES:

An individual requesting notification of the existence of records about them should send a written inquiry to the applicable System Manager as identified above. DOI instructions for submitting a request for notification are available on the DOI Privacy Act Requests website at https://www.doi.gov/privacy/privacy-act-requests. The request must include a general description of the records and the requester's full name, current address, and sufficient identifying information such as date of birth or other information required for verification of the requester's identity. The request must be signed and dated and be either notarized or submitted under penalty of perjury in accordance with 28 U.S.C. 1746. Requests submitted by mail must be clearly marked “PRIVACY ACT INQUIRY” on both the envelope and letter. A request for notification must meet the requirements of 43 CFR 2.235.

EXEMPTIONS PROMULGATED FOR THE SYSTEM:

None.

HISTORY:

64 FR 17413 (April 9, 1999); modification published at 73 FR 45244 (August 4, 2008) and 86 FR 50156 (September 7, 2021).

Teri Barnett,
Departmental Privacy Officer, Department of the Interior.

[FR Doc. 2023-24382 Filed 11-3-23; 8:45 am]

BILLING CODE 4310-05-P